DEPARTMENT OF HEALTH AND HUMAN SERVICES

National Institutes of Health

Division of Program Coordination, Planning, and Strategic Initiatives, Office of the Director Notice of Proposed Reorganization

AGENCY: National Institutes of Health, HHS.

ACTION: Notice.

SUMMARY: The Division of Program Coordination, Planning, and Strategic Initiatives (DPCPSI) in the Office of the Director, National Institutes of Health (NIH) is seeking public comment regarding its proposal to transfer the Office of Nutrition Research (ONR) from the National Institute of Diabetes and Digestive and Kidney Diseases to DPCPSI in the Office of the Director, NIH. The program offices in DPCPSI share a common mission of identifying emerging scientific opportunities, rising public health challenges, or scientific knowledge gaps that deserve special emphasis. The proposed reorganization would align this important office with offices having similar trans-NIH functions.

DATES: Any interested person may file written comments by sending an email to DPCPSIreorgcomments@nih.gov by December 29, 2020. The statement should include the individual's name, and when applicable, professional affiliation.

ADDRESSES: The following email address has been established for comments on the reorganization: DPCPSIreorgcomments@nih.gov.

FOR FURTHER INFORMATION CONTACT: Robin I. Kawazoe, Deputy Director, DPCPSI, DPCPSIreorgcomments@nih.gov, 301-402-9852.

SUPPLEMENTARY INFORMATION: Pursuant to the NIH Reform Act of 2006 (42 U.S.C. Sec.281 (d)(4)), DPCPSI will launch public website information at https://dpcpsi.nih.gov/proposed-reorg-ONR-transfer to further encourage public discussion of the proposal to reorganize. The public is encouraged to email DPCPSIreorgcomments@nih.gov for comments and questions.

Dated: December 16, 2020.
Lawrence A. Tabak,
Principal Deputy Director, National Institutes of Health.

[FR Doc. 2020-28074 Filed 12-18-20; 8:45 am]

BILLING CODE 4140-01-P